SOCIAL SECURITY ADMINISTRATION

Privacy Act of 1974 as Amended; Computer Matching Program (SSA/ Department of Veterans Affairs (VA) Veterans Benefit Administration (VBA) Match Number 1008

AGENCY: Social Security Administration (SSA).

ACTION: Notice of a renewal of a computer matching program.

SUMMARY: In accordance with the provisions of the Privacy Act, as amended, this notice announces a renewal of a computer matching program that SSA will conduct with VBA.

DATES: SSA will file a report of the subject matching program with the Committee on Governmental Affairs of the Senate, the Committee on Government Reform of the House of Representatives and the Office of Information and Regulatory Affairs, Office of Management and Budget (OMB). The matching program will be effective as indicated below.

ADDRESSES: Interested parties may comment on this notice either by telefax to (410) 965-8582 or writing to the Associate Commissioner for Income Security Programs, 245 Altmeyer Building, 6401 Security Boulevard, Baltimore, MD 21235-6401. All comments received will be available for public inspection at this address.

FOR FURTHER INFORMATION CONTACT: The Associate Commissioner for Income Security Programs as shown above.

SUPPLEMENTARY INFORMATION:

A. General

The Computer Matching and Privacy Protection Act of 1988 (Pub. L. 100-503), amended the Privacy Act (5 U.S.C. § 552a) by describing the manner in which computer matching involving Federal agencies could be performed and adding certain protections for individuals applying for and receiving Federal benefits. Section 7201 of the Omnibus Budget Reconciliation Act of 1990 (Pub. L. 101-508) further amended the Privacy Act regarding protections for such individuals.

The Privacy Act, as amended, regulates the use of computer matching by Federal agencies when records in a system of records are matched with other Federal, State, or local government records. It requires Federal agencies involved in computer matching programs to:

(1) Negotiate written agreements with the other agency or agencies participating in the matching programs;

(2) Obtain the approval of the matching agreement by the Data Integrity Boards (DIB) of the participating Federal agencies;

(3) Publish notice of the computer matching program in the Federal Register;

(4) Furnish detailed reports about matching programs to Congress and OMB;

(5) Notify applicants and beneficiaries that their records are subject to matching; and

(6) Verify match findings before reducing, suspending, terminating or denying an individual's benefits or payments.

B. SSA Computer Matches Subject to the Privacy Act

We have taken action to ensure that all of SSA's computer matching programs comply with the requirements of the Privacy Act, as amended.

Dated: August 23, 2004.
Martin H. Gerry,
Deputy Commissioner for Disability and Income Security Programs.

(SSA Match 1008)

Notice of Computer Matching Program (SSA/ Department of Veterans Affairs (VA) Veterans Benefit Administration (VBA) Match Number 1008

A. Participating Agencies

SSA and VBA.

B. Purpose of the Matching Program

The purpose of this matching program is to establish conditions for VBA as the source agency, to disclose VA compensation and pension payment data to the SSA, the recipient agency. This disclosure will provide SSA with information necessary to identify certain Supplemental Security Income (SSI) and Special Veterans Benefit (SVB) recipients under Title XVI and Title VIII of the Social Security Act (“Act”) respectively who receive VA-administered benefits, and to update their SSI/SVB records to reflect the presence of such payments.

The disclosure will also enable SSA to efficiently implement a Medicare outreach program mandated by Section 1144 of Title XI of the Act. Information disclosed by the VA will enable SSA to identify income limits for certain individuals and to determine their potential eligibility for Medicare Savings Programs (MSP) and enable SSA, in turn, to identify these individuals to the States.

C. Authority for Conducting the Matching Program

The legal authority for SSA to conduct this matching activity is contained in sections 1631(e)(1)(B) and 1631(f) of the Act, 42 U.S.C. 1383(e)(1)(B) and 1383(f)(SSI), and section 806(b) of the Act, 42 U.S.C 1006(b)(SVB) and section 1144 of the Act, 42 U.S.C § 1320b-14. SSA is required to verify declarations of applicants for and recipients of SSI payments before making a determination of eligibility or payment amount. Section 1631(f) of the Act (42 U.S.C. § 1383(f)(SSI) cited above requires Federal agencies to provide SSA with information necessary to verify SSI eligibility or benefit amounts or to verify other information related to these determinations.

Categories of Records and Individuals Covered by the Matching Agreement

VBA will disclose to SSA the data file as described below: VBA will provide SSA with electronic files containing compensation and pension payment data from its system of records entitled the Compensation, Pension, Education and Rehabilitation Records-VA (58VA21/22). SSA will then match VBA data with SSI/SVB payment information maintained in its system of records entitled Supplemental Security Income Record and Special Veterans Benefits (SSA/OEEAS 60-0103) most recently published at 66 FR 11079, dated 02/21/2001. Routine use 21 of 58VA21/22 and routine use 3 of 60-0103 permit disclosure of the subject records for matching purposes.

Inclusive Dates of the Match

The matching agreement for this program shall become effective no sooner than 40 days after notice of the matching program is sent to Congress and the Office of Management and Budget (OMB) or 30 days after publication of this notice in the Federal Register whichever is later. The matching program will continue for 18 months from the effective date and may be extended for an additional 12 months thereafter, if certain conditions are met.

[FR Doc. 04-20322 Filed 9-7-04; 8:45 am]

BILLING CODE 4191-02-P